DEPARTMENT OF THE INTERIOR

Bureau of Land Management

[223.LLID957000.L14400000.BJ0000.241A00]

Notice of Filing of Plats of Survey, Idaho

AGENCY: Bureau of Land Management, Interior.

ACTION: Notice of official filing of plats of surveys.

SUMMARY: The plats of survey of the following described lands are scheduled to be officially filed in the Bureau of Land Management (BLM), Idaho State Office, Boise, Idaho, 30 calendar days from the date of this publication. The surveys, which were executed at the request of the Bureau of Indian Affairs and the BLM, are necessary for the management of these lands.

Boise Meridian, Idaho

T. 15 S., R. 13 E., Sections 27 and 34, accepted December 22, 2021.

T. 1 N., R. 12 E., Section 25, accepted January 12, 2022.

T. 16 S., R. 11 E., Section 4, accepted January 13, 2022.

T. 5 S., R. 35 E., Sections 25, 26, 27, 28, 29, 32, 33, 34, 35 and 36, accepted February 28, 2022.

T. 5 1/2 S., R. 35 E, Tracts 37-40, accepted February 28, 2022.

T. 8 S., R. 40 E., Sections 25, 26, and 35, accepted March 21, 2022.

T. 37 N., R. 2 W., Sections 25 and 28, accepted March 29, 2022.

T. 34 N., R. 3 E., Sections 8, 14, 17 and 28, accepted May 17, 2022.

ADDRESSES: A copy of the plats may be obtained from the Public Room at the Bureau of Land Management, Idaho State Office, 1387 S Vinnell Way, Boise, Idaho 83709, upon required payment.

FOR FURTHER INFORMATION CONTACT: Timothy A. Quincy, Branch of Cadastral Survey, Bureau of Land Management, 1387 South Vinnell Way, Boise, Idaho, 83709-1657; (208) 373-3981; email: tquincy@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION: The plat, in one sheet, incorporating the field notes of the dependent resurvey of a portion of the south boundary and subdivisional lines and the subdivision of sections 27 and 34, Township 15 South, Range 13 East, Boise Meridian, Idaho, was accepted December 22, 2021.

The plat, in one sheet, incorporating the field notes of the dependent resurvey of portions of the east boundary and subdivisional lines and the subdivision of section 25, Township 1 North, Range 12 East, Boise Meridian, Idaho, was accepted January 12, 2022.

The plat, in one sheet, incorporating the field notes of the dependent resurvey of a portion of the north boundary and subdivisional lines and the subdivision of section 4, Township 16 South, Range 11 East, Boise Meridian, Idaho, was accepted January 13, 2022.

The plat, in 3 sheets, incorporating the field notes of the corrective dependent resurvey of portions of the east boundary and subdivisional lines, and the dependent resurvey of portions of the 1875 south boundary, subdivisional lines and subdivision of sections 25, 26, 27, 28, 29, 32, 33, 34, and 35, and the survey of tracts 37 through 41, Township 5 South, Range 35 East, Boise Meridian, Idaho, was accepted February 28, 2022.

The plat, in one sheet, incorporating the field notes of the corrective dependent resurvey of portions of the 1892 south boundary, and the dependent resurvey of a portion of the 1892 south boundary, and the survey of tracts 37 through 40, Township 5 1/2 South, Range 35 East, Boise Meridian, Idaho, was accepted February 28, 2022.

The plat, in two sheets, incorporating the field notes of the dependent resurvey of portions of the south boundary, east boundary, subdivisional lines and subdivision of sections 25, 26 and 35, Township 8 South, Range 40 East, Boise Meridian, Idaho, was accepted March 21, 2022.

The plat, in two sheets, incorporating the field notes of the dependent resurvey of portions of the east boundary, subdivisional lines and the 1892 meanders of the Clearwater River in section 28, and subdivision of sections 25 and 28, Township 37 North, Range 2 West, Boise Meridian, Idaho, was accepted March 29, 2022.

The plat, in three sheets, incorporating the field notes of the dependent resurvey of portions of the subdivisional lines, the 1915 segregation survey of the Big Four Lode Mining Claim, the original 1897 meanders of the Clearwater River in sections 17 and 28, and subdivision of sections 8, 14, 17, and 28, Township 34 North, Range 3 East, Boise Meridian, Idaho, was accepted May 17, 2022.

A person or party who wishes to protest one or more plats of survey identified above must file a written notice of protest with the Chief Cadastral Surveyor for Idaho, Bureau of Land Management within 30 calendar days from the date of this publication at the address listed in the ADDRESSES section of this notice. The protest must identify the plat(s) of survey that the person or party wishes to protest and contain all reasons and evidence in support of the protest. The protest must be filed before the scheduled date of official filing for the plat(s) of survey being protested. Any protest filed after the scheduled date of official filing will be untimely and will not be considered. A protest is considered filed on the date it is received by the Chief Cadastral Surveyor for Idaho during regular business hours; if received after regular business hours, a protest will be considered filed the next business day. If a protest against a plat of survey is received prior to the scheduled date of official filing, the official filing of the plat of survey identified in the protest will be stayed pending consideration of the protest. A plat of survey will not be officially filed until the next business day following dismissal or resolution of all protests of the plat.

Before including your address, phone number, email address, or other personal identifying information in a protest, you should be aware that the documents you submit, including your personal identifying information, may be made publicly available in their entirety at any time. While you can ask us to withhold your personal identifying information from public review, we cannot guarantee that we will be able to do so.

(Authority: 43 U.S.C., chapter 3)

Timothy A. Quincy,
Chief Cadastral Surveyor for Idaho.

[FR Doc. 2022-11449 Filed 5-26-22; 8:45 am]

BILLING CODE 4310-GG-P